DEPARTMENT OF TRANSPORTATION

Federal Aviation Administration

14 CFR Part 39

[Docket No. 2001-NM-25-AD; Amendment 39-12307; AD 2001-13-25]

RIN 2120-AA64

Airworthiness Directives; Bombardier Model DHC-8-200 and -300 Series Airplanes

AGENCY: Federal Aviation Administration, DOT.

ACTION: Final rule.

SUMMARY: This amendment supersedes an existing airworthiness directive (AD), applicable to certain Bombardier Model DHC-8-200 and -300 series airplanes, that currently requires repetitive inspections to detect chafing or arcing damage to the cable/wire and fuel tube assemblies on the right-hand side of each engine, and replacement with new components, if necessary. That AD also provides for an optional terminating action for the repetitive inspections required by that AD. This amendment requires accomplishment of the previously optional terminating action. The actions specified by this AD are intended to prevent chafing of the cable/wire bundles against the fuel line, which could result in arcing and a consequent fire or explosion. This action is intended to address the identified unsafe condition.

DATES: Effective August 10, 2001.

The incorporation by reference of certain publications listed in the regulations is approved by the Director of the Federal Register as of August 10, 2001.

ADDRESSES: The service information referenced in this AD may be obtained from Bombardier, Inc., Bombardier Regional Aircraft Division, 123 Garratt Boulevard, Downsview, Ontario M3K 1Y5, Canada. This information may be examined at the Federal Aviation Administration (FAA), Transport Airplane Directorate, Rules Docket, 1601 Lind Avenue, SW., Renton, Washington; or at or at the FAA, New York Aircraft Certification Office, 10 Fifth Street, Third Floor, Valley Stream, New York; or at the Office of the Federal Register, 800 North Capitol Street, NW., suite 700, Washington DC.

FOR FURTHER INFORMATION CONTACT: James Delisio, Aerospace Engineer, Airframe and Propulsion Branch, ANE-171, FAA, New York Aircraft Certification Office, 10 Fifth Street, Third Floor, Valley Stream, New York 11581; telephone (516) 256-7521; fax (516) 568-2716.

SUPPLEMENTARY INFORMATION: A proposal to amend part 39 of the Federal Aviation Regulations (14 CFR part 39) by superseding AD 2001-02-02, amendment 39-12086 (66 FR 6454, January 22, 2001), which is applicable to certain Bombardier Model DHC-8-200 and -300 series airplanes, was published in the Federal Register on March 29, 2001 (66 FR 17097). The action proposed to continue to require repetitive inspections to detect chafing or arcing damage to the cable/wire and fuel tube assemblies on the right-hand side of each engine, and replacement with new components, if necessary. The action also proposed to require accomplishment of the previously optional terminating action for the repetitive inspections required by AD 2001-02-02.

Comments

Interested persons have been afforded an opportunity to participate in the making of this amendment. No comments were submitted in response to the proposal or the FAA's determination of the cost to the public.

Conclusion

The FAA has determined that air safety and the public interest require the adoption of the rule as proposed.

Cost Impact

There are approximately 150 Model DHC-8-200 and -300 series airplanes of U.S. registry that will be affected by this AD.

The repetitive inspections that are currently required by AD 2001-02-02, and retained in this AD, take approximately 2 work hours per airplane to accomplish, at an average labor rate of $60 per work hour. Based on these figures, the cost impact of the previously required actions on U.S. operators is estimated to be $18,000, or $120 per airplane.

The new action, incorporation of the modification, that is required by this new AD, will take approximately 4 work hours per airplane to accomplish, at an average labor rate of $60 per work hour. Required parts will cost approximately $350 per airplane. Based on these figures, the cost impact of the new requirements of this AD on U.S. operators is estimated to be $88,500, or $590 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12086 (66 FR 6454, January 22, 2001), and by adding a new airworthiness directive (AD), amendment 39-12307, to read as follows:

2001-13-25 Bombardier, Inc. (Formerly de Havilland, Inc.): Amendment 39-12307. Docket 2001-NM-25-AD. Supersedes AD 2001-02-02, Amendment 39-12086.

Applicability: Model DHC-8-201, -202, -301, -311, and -315 series airplanes having serial numbers from 100 through 552 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent possible arcing between the electrical wiring and the fuel tube, which could result in a fire or explosion, accomplish the following:

Inspection Requirements of AD 2000-02-02

(a) Within 50 flight hours or 10 days after February 6, 2001 (the effective date of AD 2001-02-02), whichever occurs first: Do a general visual inspection to detect chafing or arcing damage to the cable and the fuel tube assemblies on the right hand side of each engine, per Bombardier Alert Service Bulletin A8-73-23, Revision A, dated December 12, 2000; or Revision B, dated January 30, 2001. Repeat the inspection every 500 flight hours or 3 months, whichever occurs first.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Repair

(b) If any damage to the fuel tube or cable assembly is detected, before further flight, replace the damaged component per Bombardier Alert Service Bulletin A8-73-23, Revision A, dated December 12, 2000, or Revision B, dated January 30, 2001. Thereafter, repeat the inspection required by paragraph (a) of this AD every 500 flight hours or 3 months, whichever occurs first.

Note 3: Accomplishment of the replacement actions specified in paragraph (b) of this AD or terminating action required by paragraph (c) of this AD, per Bombardier Alert Service Bulletin A8-73-23 (original version), dated November 30, 2000, before the effective date of this AD, is acceptable for compliance with paragraphs (b) or (c) of this AD, as applicable.

Terminating Action

(c) Within 1,000 flight hours or 6 months after the effective date of this AD, whichever occurs first: Accomplish the modification instructions described in Bombardier Alert Service Bulletin A8-73-23, Revision A, dated December 12, 2000, or Revision B, dated January 30, 2001, that specify, among other actions, rerouting the existing wire harness to the opposite side of the oil cooler. Accomplishment of the modification constitutes terminating action for the repetitive inspection requirements of this AD.

Alternative Methods of Compliance

(d) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 4: Information concerning the existence of approved alternative methods of compliance with this AD, if any, may be obtained from the New York ACO.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Bombardier Alert Service Bulletin A8-73-23, Revision A, dated December 12, 2000; or Bombardier Alert Service Bulletin A8-73-23, Revision B, dated January 30, 2001. This incorporation by reference was approved by the Director of the Federal Register in accordance with 5 U.S.C. 552(a) and 1 CFR part 51. Copies may be obtained from Bombardier, Inc., Bombardier Regional Aircraft Division, 123 Garratt Boulevard, Downsview, Ontario M3K 1Y5, Canada. Copies may be inspected at the FAA, Transport Airplane Directorate, 1601 Lind Avenue, SW., Renton, Washington; or at the Office of the Federal Register, 800 North Capitol Street, NW., suite 700, Washington, DC.

Note 5: The subject of this AD is addressed in Canadian airworthiness directive CF-2000-33, dated November 14, 2000.

Effective Date

(g) This amendment becomes effective on August 10, 2001.

Issued in Renton, Washington, on June 27, 2001.
Vi L. Lipski,
Manager, Transport Airplane Directorate, Aircraft Certification Service.

[FR Doc. 01-16742 Filed 7-5-01; 8:45 am]

BILLING CODE 4910-13-U